DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by January 20, 2004.

Title, Form, and OMB Number: Family Support Center Individual/Family Data Card; OMB Number 0701-0070.

Type of Request: Extension of a Currently Approved Collection.

Number of Respondents: 10,000.

Responses Per Respondent: 3.

Annual Responses: 30,000.

Average Burden Per Response: 16 minutes.

Annual Burden Hours: 2,600.

Needs and Uses: This information collection is necessary to obtain demographic data about individuals and family members who utilize the services of the United States Air Force Family Support Center. It is also a mechanism for tracking the services provided in order to determine program usage and trends as well as for the purpose of program evaluation, service targeting, and future budgeting. It also provides demographic data on volunteers and tracks volunteer service.

Affected Public: Individuals or Households.

Frequency: On occasion.

Respondent's Obligation: Voluntary.

OMB Desk Officer: Ms. Jacqueline Zeiher—Written comments and recommendations on the proposed information collection should be sent to Ms. Zeiher at the Office of Management and Budget, Desk Officer for DoD, Room 10236, New Executive Office Building, Washington, DC 20503.

DoD Clearance Officer: Ms. Jacqueline Davis—Written requests for copies of the information collection proposal should be sent to Ms. Davis, WHS/DIOR, 1215 Jefferson Davis Highway, Suite 1204, Arlington, VA 22202-4302.

Dated: November 26, 2003.
Patricia L. Toppings,
Alternate OSD Federal Register, Liaison Officer, Department of Defense.

[FR Doc. 03-31280 Filed 12-18-03; 8:45 am]

BILLING CODE 5001-06-M